DEPARTMENT OF ENERGY

Federal Energy Regulatory Commission

Combined Notice of Filings #3

Take notice that the Commission received the following electric rate filings:

Docket Numbers: ER10-2527-001; ER10-2528-001; ER10-3168-017; ER10-2529-001; ER10-2530-002; ER15-356-004; ER15-357-004; ER10-2533-001; ER10-2534-001; ER10-2535-001; ER12-2570-010; ER13-618-009.

Applicants: Allegheny Ridge Wind Farm, LLC, Aragonne Wind LLC, ArcLight Energy Marketing, LLC, Buena Vista Energy, LLC, Caprock Wind LLC, Chief Conemaugh Power, LLC, Chief Keystone Power, LLC, GSG, LLC, Kumeyaay Wind LLC, Mendota Hills, LLC, Panther Creek Power Operating, LLC, Westwood Generation, LLC.

Description: Notice of Non-Material Change in Status of Allegheny Ridge Wind Farm, LLC, et al.

Filed Date: 11/25/15.

Accession Number: 20151125-5441.

Comments Due: 5 p.m. ET 12/16/15.

Docket Numbers: ER10-3246-007; ER11-2044-018; ER10-2475-012; ER10-2474-012; ER12-162-015; ER15-2211-005; ER11-3876-018; ER13-520-005; ER13-521-005; ER13-1441-005; ER13-1442-005; ER12-1626-006; ER13-1266-006; ER13-1267-005; ER13-1268-005; ER13-1269-005; ER13-1270-005; ER13-1271-005; ER13-1272-005; ER13-1273-005; ER10-2601-005; ER10-2611-016; ER10-2605-009; ER12-922-003.

Applicants: PacifiCorp, MidAmerican Energy Company, Nevada Power Company, Sierra Pacific Power Company, Bishop Hill Energy II LLC, MidAmerican Energy Services, LLC, Cordova Energy Company LLC, Pinyon Pines Wind I, LLC, Pinyon Pines Wind II, LLC, Solar Star California XIX, LLC, Solar Star California XX, LLC, Topaz Solar Farms LLC, CalEnergy, LLC, CE Leathers Company, Del Ranch Company, Elmore Company, Fish Lake Power LLC, Salton Sea Power Generation Company, Salton Sea Power L.L.C., Vulcan/BN Geothermal Power Company, Power Resources, Ltd, Saranac Power Partners, L.P., Yuma Cogeneration Associates, Phillips 66 Company.

Description: Notification of Change in Status PacifiCorp, et al.

Filed Date: 11/25/15.

Accession Number: 20151125-5440.

Comments Due: 5 p.m. ET 12/16/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 27, 2015.
Nathaniel J. Davis, Sr.,
Deputy Secretary.

[FR Doc. 2015-30569 Filed 12-2-15; 8:45 am]

BILLING CODE 6717-01-P